DEPARTMENT OF TRANSPORTATION

Coast Guard

[USCG 2001-9764]

Information Collection Under Review by the Office of Management and Budget (OMB): 2115-0633

AGENCY: Coast Guard, DOT.

ACTION: Request for comments.

SUMMARY: In compliance with the Paperwork Reduction Act of 1995, this request for comments announces that the Coast Guard has forwarded one Information Collection Report (ICR), abstracted below, to OMB for review and comment. Our ICRs describe the information we seek to collect from the public. Review and comment by OMB ensure that we impose only paperwork burdens commensurate with our performance of duties.

DATES: Please submit comments on or before October 29, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of complete ICRs are available for inspection and copying in public dockets. A copy of this complete ICR is available in docket USCG 2001-9764 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION

Regulatory History

This request constitutes the 30-day notice required by OMB. The Coast Guard has already published (66 FR 30040 (June 4, 2001)) the 60-day notice required by OMB. That request elicited the comment treated in the next two paragraphs:

The comment stated that, after the company had spent considerable resources to implement the Streamlined Inspection Program (SIP) in 1998, the Coast Guard changed the program and made it more burdensome. The comment further stated that the program had changed so far that the company would withdraw from it.

The SIP is a voluntary program with the goal of providing owners and operators of vessels registered or documented in the United States an alternative method of complying with requirements of the Coast Guard for inspection. The Coast Guard initiated the SIP as a series of local pilot programs, but soon recognized the need for standardized, national guidelines. To ease the burden of converting from local to national guidelines, the Coast Guard provided a three-year period for conversion. The guidelines aim at establishing the baseline to properly maintain a national program. Because the SIP is voluntary, each owner or operator of a vessel must decide whether continued participation is cost-effective for it. On September 10, 2001, we sent a reply to the submitter and sent a copy of it to OMB.

Request for Comments

The Coast Guard invites comments on the proposed collection of information to determine whether the collection is necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Number of the ICR. Comments to DMS must contain the docket number of this request, USCG 2000-7821. Comments to OIRA are best assured of having their full effect if OIRA receives them 30 or fewer days after the publication of this request.

Information Collection Requests

1. Title: Streamlined Inspection Program.

OMB Control Number: 2115-0633.

Type of Request: Extension of a currently approved collection.

Affected Public: Operators and owners of vessels registered or documented in the United States.

Forms: This collection of information does not require the public to fill out Coast Guard forms, but operators or owners of vessels that choose to participate in the SIP will maintain their covered vessels in compliance with Company Action Plans (CAPs) and Vessel Action Plans (VAPs) and have their own personnel periodically perform many of the tests and examinations normally conducted by marine inspectors of the Coast Guard.

Abstract: The Coast Guard established the SIP to provide owners and operators of vessels registered or documented in the United States an alternative method of complying with requirements of the Coast Guard for inspection. Participation in the SIP was and is voluntary.

Annual Estimated Burden Hours: The estimated burden is 32,244 hours a year.

Dated: September 20, 2001.
V.S. Crea,
Director of Information and Technology.

[FR Doc. 01-24234 Filed 9-26-01; 8:45 am]

BILLING CODE 4910-15-P